DEPARTMENT OF ENERGY

Federal Energy Regulatory Commission

Notice of Application for Amendment of License and Soliciting Comments, Motions To Intervene, and Protests

January 24, 2002.

Take notice that the following application has been filed with the Commission and is available for public inspection:

a. Application Type: Amendment of license to add Shoreline Management Plan

b. Project No: 2206-021

c. Date Filed: December 28, 2001

d. Applicant: Carolina Power &Light Company

e. Name of Project: Tillery Hydroelectric Project

f. Location: On the Pee Dee River in Montgomery and Stanley Counties, North Carolina. The project does not utilize federal or tribal lands.

g. Filed Pursuant to: Federal Power Act, 16 USC 791(a)-825(r).

h. Applicant Contact: Mr. Larry Mann, Carolina Power & Light Company, Tillery Hydro Plant, 179 Tillery Dam Road, Mt. Gilead, NC 27306. Phone: (910) 439-5211, ext. 1202.

i. FERC Contact: Any questions on this notice should be addressed to Shana High at (202) 208-2266, or e-mail address: shana.high@ferc.fed.us.

j. Deadline for filing comments and/or motions: March 6, 2002.

All documents (original and eight copies) should be filed with: The Secretary, Federal Energy Regulatory Commission, 888 First Street, N.E., Washington DC 20426. Please include the project number (2206-021) on any comments or motions filed.

Comments, protests and interventions may be filed electronically via the Internet in lieu of paper. See, 18 CFR 385.2001(a)(1)(iii) and the instructions on the Commission's web site under the “e-Filing” link.

k. Description of Proposal: CP&L developed a Shoreline Management Plan (SMP) to provide greater protection of the Lake Tillery shoreline, while ensuring safe and reliable production of hydroelectric power at the project. In the proposed plan, the licensee designates certain land classifications for its 118 miles of shorelines. These designations, including Environmental/Natural, Potential Development Areas, and Impact Minimization Zones will allow the licensee to manage lands for future uses. The SMP can be viewed at www.cpl.com by clicking “Our Environment”, “Lake Tillery Shoreline Management”, “View Documents Online”.

l. Locations of the Application: Copies of this filing are on file with the Commission and are available for public inspection. This filing may also be viewed on the web at http://www.ferc.gov using the “RIMS” link, select “Docket #” and follow the instructions (call 202-208-2222 for assistance).

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

C.B. Spencer,
Acting Secretary.

[FR Doc. 02-2247 Filed 1-29-02; 8:45 am]

BILLING CODE 6717-01-P